DEPARTMENT OF ENERGY

Federal Energy Regulatory Commission

[Docket No. RP02-81-001]

El Paso Natural Gas Company; Notice of Tariff Filing

December 20, 2001.

Take notice that on December 18, 2001, El Paso Natural Gas Company (EPNG) tendered for filing as part of its FERC Gas Tariff, Second Revised Volume No. 1-A, Substitute Eighth Revised Sheet No. 37, with an effective date of January 1, 2002.

On November 29, 2001 in Docket No. RP02-81-000, EPNG submitted for filing ten revised tariff sheets to be effective on January 1, 2002. EPNG states that it is submitting Substitute Eighth Revised Sheet No. 37 to reflect the same maximum monthly California reservation rate shown on the Sheet No. 22 submitted in the original filing on November 29.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31998 Filed 12-27-01; 8:45 am]

BILLING CODE 6717-01-P